DEPARTMENT OF TRANSPORTATION

Federal Aviation Administration

14 CFR Part 97

[Docket No. 31355; Amdt. No. 3943]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPS) and associated Takeoff Minimums and Obstacle Departure procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 5, 2021. The compliance date for each SIAP, associated Takeoff Minimums, and ODP is specified in the amendatory provisions.

The incorporation by reference of certain publications listed in the regulations is approved by the Director of the Federal Register as of March 5, 2021.

ADDRESSES: Availability of matters incorporated by reference in the amendment is as follows:

For Examination

1. U.S. Department of Transportation, Docket Ops-M30. 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29, Room 104, Oklahoma City, OK 73169. Telephone (405) 954-4164.

SUPPLEMENTARY INFORMATION: This rule amends 14 CFR part 97 by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA Forms 8260-3, 8260-4, 8260-5, 8260-15A, 8260-15B, when required by an entry on 8260-15A, and 8260-15C.

The large number of SIAPs, Takeoff Minimums and ODPs, their complex nature, and the need for a special format make publication in the Federal Register expensive and impractical. Further, airmen do not use the regulatory text of the SIAPs, Takeoff Minimums or ODPs, but instead refer to their graphic depiction on charts printed by publishers or aeronautical materials. Thus, the advantages of incorporation by reference are realized and publication of the complete description of each SIAP, Takeoff Minimums and ODP listed on FAA form documents is unnecessary. This amendment provides the affected CFR sections and specifies the typed of SIAPS, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPs as identified in the amendatory language for part 97 of this final rule.

The Rule

This amendment to 14 CFR part 97 is effective upon publication of each separate SIAP, Takeoff Minimums and ODP as amended in the transmittal. Some SIAP and Takeoff Minimums and textual ODP amendments may have been issued previously by the FAA in a Flight Data Center (FDC) Notice to Airmen (NOTAM) as an emergency action of immediate flights safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on February 5, 2021.
Wade Terrell,
Aviation Safety, Manager, Flight Procedures & Airspace Group, Flight Technologies and Procedures Division.

Adoption of the Amendment

Accordingly, pursuant to the authority delegated to me, Title 14, Code of Federal Regulations, Part 97 (14 CRF part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 25 March 2021

Chicago, IL, KMDW, RNAV (GPS) Z RWY 13C, Amdt 2

Effective 22 April 2021

North Little Rock, AR, KORK, LOC RWY 5, Orig-C

North Little Rock, AR, KORK, RNAV (GPS) RWY 5, Amdt 1A

North Little Rock, AR, KORK, RNAV (GPS) RWY 35, Orig-B

Globe, AZ, P13, RNAV (GPS) RWY 27, Amdt 1

Lake Havasu City, AZ, KHII, RNAV (GPS) RWY 14, Orig-C

Lake Havasu City, AZ, KHII, RNAV (GPS) RWY 32, Orig-A

Lake Havasu City, AZ, KHII, VOR-A, Amdt 1A

Show Low, AZ, KSOW, NDB-A, Amdt 2A, CANCELLED

Grass Valley, CA, KGOO, RNAV (GPS) RWY 7, Orig-D

Los Angeles, CA, KLAX, ILS OR LOC RWY 24L, Amdt 27D

Los Angeles, CA, KLAX, ILS OR LOC RWY 25R, Amdt 19A

Los Angeles, CA, KLAX, RNAV (GPS) Y RWY 24L, Amdt 5C

Los Angeles, CA, KLAX, RNAV (GPS) Y RWY 25R, Amdt 3B

Los Angeles, CA, KLAX, RNAV (RNP) Z RWY 24L, Amdt 2A

San Diego/El Cajon, CA, Gillespie Field, Mission Bay Two Graphic DP

San Diego/El Cajon, CA, Gillespie Field, Takeoff Minimums and Obstacle DP, Amdt 7

San Francisco, CA, KSFO, ILS PRM RWY 28L (SIMULTANEOUS CLOSE PARALLEL), Amdt 3A, CANCELLED

San Francisco, CA, KSFO, LDA/DME RWY 28R, Amdt 2B, CANCELLED

San Francisco, CA, KSFO, LDA PRM RWY 28R (CLOSE PARALLEL), Amdt 2B, CANCELLED

San Francisco, CA, KSFO, RNAV (GPS) PRM RWY 28L (CLOSE PARALLEL), Amdt 2, CANCELLED

San Francisco, CA, KSFO, RNAV (GPS) PRM X RWY 28R (CLOSE PARALLEL), Amdt 1B, CANCELLED

Greeley, CO, Greeley-Weld County, RNAV (GPS) RWY 10, Amdt 1C

Greeley, CO, Greeley-Weld County, RNAV (GPS) RWY 17, Amdt 1B

Greeley, CO, Greeley-Weld County, RNAV (GPS) RWY 35, Amdt 1B

Miami, FL, KMIA, ILS OR LOC RWY 26L, Amdt 16B

Tampa, FL, KTPA, RNAV (RNP) Y RWY 19L, Amdt 1E, CANCELLED

Atlanta, GA, KCCO, ILS OR LOC RWY 33, Orig-B

Atlanta, GA, KCCO, RNAV (GPS) RWY 15, Amdt 1B

Atlanta, GA, KCCO, RNAV (GPS) RWY 33, Amdt 2B

Hazlehurst, GA, KAZE, NDB RWY 14, Amdt 5A, CANCELLED

Kahului, HI, Kahului, ILS OR LOC RWY 2, Amdt 26

Waterloo, IA, Waterloo Rgnl, Takeoff Minimums and Obstacle DP, Amdt 1

Arco, ID, KAOC, RNAV (GPS)-A, Orig-B

Boise, ID, KBOI, VOR OR TACAN RWY 10L, Amdt 2B

Boise, ID, KBOI, VOR OR TACAN RWY 28L, Amdt 2A

Benton, IL, Benton Muni, Takeoff Minimums and Obstacle DP, Orig-A

Effingham, IL, Effingham County Memorial, Takeoff Minimums and Obstacle DP, Amdt 5B

Paris, IL, KPRG, VOR/DME-A, Amdt 8A, CANCELLED

Plymouth, IN, C65, RNAV (GPS) RWY 10, ORIG-B

Dodge City, KS, KDDC, ILS OR LOC RWY 14, Amdt 3B

Dodge City, KS, KDDC, VOR RWY 14, Amdt 19B

Dodge City, KS, KDDC, VOR RWY 32, Amdt 5B

Elkhart, KS, KEHA, NDB RWY 35, Amdt 2A, CANCELLED

Welsh, LA, Welsh, Takeoff Minimums and Obstacle DP, Orig

Escanaba, MI, KESC, RNAV (GPS) RWY 19, Orig

Aitkin, MN, KAIT, NDB RWY 16, Amdt 5C, CANCELLED

Cambridge, MN, Cambridge Muni, RNAV (GPS) RWY 16, Orig-C

Pine River, MN, KPWC, NDB RWY 34, Amdt 2A, CANCELLED

Sauk Centre, MN, D39, RNAV (GPS) RWY 32, Amdt 1B

Asheville, NC, KAVL, ILS OR LOC RWY 35, Amdt 1

Asheville, NC, KAVL, RNAV (GPS) RWY 35, Amdt 1

Scribner, NE, KSCB, RNAV (GPS) RWY 17, Amdt 1B

Manchester, NH, KMHT, ILS OR LOC RWY 6, Amdt 3A

Manchester, NH, KMHT, ILS OR LOC RWY 35, ILS RWY 35 (SA CAT I), ILS RWY 35 (CAT II), ILS RWY 35 (CAT III), Amdt 5

Manchester, NH, KMHT, RNAV (GPS) RWY 24, Amdt 2

Linden, NJ, Linden, Takeoff Minimums and Obstacle DP, Amdt 3

Glens Falls, NY, Floyd Bennett Memorial, Takeoff Minimums and Obstacle DP, Amdt 2

New York, NY, Downtown Manhattan/Wall St, Takeoff Minimums and Obstacle DP, Amdt 1

New York, NY, East 34th St, Takeoff Minimums and Obstacle DP, Amdt 1

New York, NY, West 30th St, Takeoff Minimums and Obstacle DP, Amdt 2

Wooster, OH, KBJJ, VOR RWY 10, Amdt 1D

Corvallis, OR, KCVO, ILS OR LOC RWY 17, Amdt 5A

Corvallis, OR, KCVO, VOR RWY 17, Amdt 8A

Reading, PA, Reading Rgnl/Carl A Spaatz Field, ILS OR LOC RWY 13, Amdt 1D

Charleston, SC, KCHS, ILS OR LOC RWY 15, ILS RWY 15 (SA CAT I), ILS RWY 15 (CAT II), Amdt 24B

Florence, SC, KFLO, RNAV (GPS) RWY 27, Orig-C

Manning, SC, KMNI, NDB OR GPS RWY 2, Amdt 2B

Cleveland, TN, KRZR, RNAV (GPS) RWY 3, Amdt 2B

Pulaski, TN, Abernathy Field, Takeoff Minimums and Obstacle DP, Amdt 5

Dallas-Fort Worth, TX, KDFW, ILS OR LOC RWY 36L, ILS RWY 36L (CAT II), ILS RWY 36L (CAT III), Amdt 5

Gilmer, TX, KJXI, RNAV (GPS) RWY 18, Orig-C

Hondo, TX, KHDO, NDB RWY 35R, Amdt 5A, CANCELLED

Kenedy, TX, Kenedy Rgnl, RNAV (GPS) RWY 34, Orig-D

Wichita Falls, TX, Wichita Valley, Takeoff Minimums and Obstacle DP, Amdt 1A

Fillmore, UT, KFOM, RNAV (GPS) RWY 4, Amdt 1C

Fillmore, UT, KFOM, RNAV (GPS) RWY 22, Amdt 1A

Provo, UT, KPVU, ILS OR LOC RWY 13, Amdt 5

Provo, UT, Provo Muni, RNAV (GPS) RWY 13, Amdt 3

Salt Lake City, UT, KSLC, ILS OR LOC RWY 34L, ILS RWY 34L (SA CAT I), ILS RWY 34L (CAT II), ILS RWY 34L (CAT III), Amdt 3E

Salt Lake City, UT, KSLC, RNAV (GPS) RWY 34L, Amdt 1D

Salt Lake City, UT, KSLC, RNAV (GPS) RWY 35, Amdt 3A

Vernal, UT, KVEL, RNAV (GPS) Z RWY 35, Orig-B

Charlottesville, VA, KCHO, RNAV (GPS) RWY 3, Amdt 3A

Burlington, VT, Burlington Intl, ILS OR LOC RWY 15, Amdt 24C

Wilbur, WA, 2S8, RNAV (GPS)-A, Orig-A

Kenosha, WI, KENW, RNAV (GPS) RWY 7L, Amdt 1A

Waupaca, WI, KPCZ, RNAV (GPS) RWY 10, Amdt 2B

[FR Doc. 2021-04621 Filed 3-4-21; 8:45 am]

BILLING CODE 4910-13-P